DEPARTMENT OF ENERGY

Federal Energy Regulatory Commission

[Docket No. EC01-77-000]

Interstate Power Company; Notice of Filing

March 29, 2001.

Take notice that on March 27, 2001, Interstate Power Company (IPC) filed an Amendment to its Application for Authority to Sell Certain Public Utility Assets pursuant to Section 203 of the Federal Power Act. IPC provides additional support in the amendment why its proposed sale of assets will not adversely affect competition, rates or regulation. IPC also submits updated Exhibits B, E and I to the original application.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8260 Filed 4-3-01; 8:45 am]

BILLING CODE 6717-01-M